GENERAL SERVICES ADMINISTRATION

48 CFR Parts 525 and 552

[GSAR Amendment 2009-04; GSAR Case 2006-G520 (Change 30) Docket 2008-0007; Sequence 2]

RIN 3090-AI66

General Services Administration Acquisition Regulation; GSAR Case 2006-G520; Rewrite of Part 525, Foreign Acquisition

AGENCIES: General Services Administration (GSA), Office of the Chief Acquisition Officer.

ACTION: Final rule.

SUMMARY: The General Services Administration (GSA) is amending the General Services Administration Acquisition Regulation (GSAR) to revise and update the agency's implementation of Federal Acquisition Regulation (FAR) Part 25.

DATES: Effective Date: July 6, 2009.

FOR FURTHER INFORMATION CONTACT: For clarification of content, contact Ms. Meredith Murphy at (202) 208-6925, or by e-mail at meredith.murphy@gsa.gov. For information pertaining to the status or publication schedules, contact the Regulatory Secretariat (VPR), Room 4041, GS Building, Washington, DC 20405, (202) 501-4755. Please cite GSAR Case 2006-G520.

SUPPLEMENTARY INFORMATION:

A. Background

This is part of the General Services Administration Acquisition Manual (GSAM) Rewrite Project, initiated in 2006 to revise, update, and simplify the GSAM. An Advance Notice of Proposed Rulemaking, with a request for comments, was published in the Federal Register at 71 FR 7910 on February 15, 2006. The three comments received on Part 525 were addressed in the proposed rule.

A notice of proposed rulemaking was published in the Federal Register at 73 FR 44208 on July 30, 2008. The public comment period for the proposed rule closed September 29, 2008. The draft revisions proposed to remove the outdated material from the GSAR, i.e., all of GSAR Part 525.

One comment was received in response to the proposed rule. The commenter requested “clarification in detail” of the Buy American Act (BAA) and the Trade Agreements Act (TAA) for GSA multiple award contract holders. The commenter has asked for interpretation of the FAR, not a change to the proposed rule. The comment is, therefore, outside the scope of the GSAM Rewrite.

No comments were received regarding the proposed changes to GSAR Part 525. Therefore, the proposed rule is being converted to a final rule without change.

This is not a significant regulatory action and, therefore, was not subject to review under Section 6(b) of Executive Order 12866, Regulatory Planning and Review, dated September 30, 1993. This rule is not a major rule under 5 U.S.C. 804.

B. Regulatory Flexibility Act

The General Services Administration does not expect this final rule to have a significant economic impact on a substantial number of small entities within the meaning of the Regulatory Flexibility Act, 5 U.S.C. 601, et seq., because the changes are primarily editorial in nature. No comments were received in response to the shift from GSAR to GSAM. A Regulatory Flexibility Analysis has, therefore, not been performed. We invite comments from small businesses and other interested parties. GSA will consider comments from small entities concerning the affected GSAR Parts 525 and 552 in accordance with 5 U.S.C. 610. Interested parties must submit such comments separately and should cite 5 U.S.C. 601, et seq. (GSAR case 2006-G520), in all correspondence.

C. Paperwork Reduction Act

The Paperwork Reduction Act does not apply because the changes to the GSAR do not impose recordkeeping or information collection requirements, or otherwise collect information from offerors, contractors, or members of the public that require approval of the Office of Management and Budget under 44 U.S.C. Chapter 35, et seq.

List of Subjects in 48 CFR Parts 525 and 552

Government procurement.

Dated: March 11, 2009.
Rodney P. Lantier,
Acting Senior Procurement Executive, Office of the Chief Acquisition Officer, General Services Administration.

Therefore, GSA amends 48 CFR parts 525 and 552 as set forth below:

1. The authority citation for 48 CFR part 525 is revised to read as follows:

Authority: 40 U.S.C. 121(c).

PART 525—FOREIGN ACQUISITION

Subpart 525.3 [Removed]

2. Remove Subpart 525.3.

Subpart 525.5 [Removed]

3. Remove Subpart 525.5.

Subpart 525.11 [Removed]

4. Remove Subpart 525.11.

5. The authority citation for 48 CFR part 552 continues to read as follows:

Authority: 40 U.S.C. 121(c).

PART 552—SOLICITATION PROVISIONS AND CONTRACT CLAUSES

552.225-70 [Removed]

6. Remove section 552.225-70.

[FR Doc. E9-10419 Filed 5-5-09; 8:45 am]

BILLING CODE 6820-61-S